DEPARTMENT OF THE TREASURY

United States Mint

Notification of New Pricing Methodology for Numismatic Products Containing Platinum and Gold Coins

SUMMARY: The United States Mint is implementing a new pricing methodology for its numismatic products containing platinum and gold coins to mitigate the effect that fluctuating gold and platinum commodity costs has on the pricing of these products. The new pricing methodology is based primarily on the London Fix weekly average (average of the London Fix prices covering the previous Thursday a.m. Fix through the Wednesday a.m. Fix) platinum and gold prices, which reflect the market value of the platinum and gold bullion that these products contain. As required by law, the prices of these products also must be sufficient to recover all other costs incurred by the United States Mint, such as the cost of minting, marketing, and distributing such products (including labor, materials, dies, use of machinery, and promotional and overhead expenses). This pricing methodology will allow the United States Mint to change the prices of these products as often as weekly so they better reflect the costs of platinum and gold on the open markets.

DATES: The new pricing methodology, as further explained in the SUPPLEMENTARY INFORMATION section, will go into effect on January 12, 2008.

FOR FURTHER INFORMATION CONTACT: B.B. Craig, Associate Director for Sales and Marketing; United States Mint; 801 Ninth Street, NW.; Washington , DC 20220; or call 202-354-7500.

SUPPLEMENTARY INFORMATION: Pursuant to the authority that 31 U.S.C. 5111(a)(3), 5112(i), 5112(k), 5112(o), and 5112(q) grant the Secretary of the Treasury to mint and issue gold and platinum coins and to prepare and distribute numismatic items, the United States Mint sells to the public numismatic products containing American Eagle Gold and Platinum Coins, American Buffalo Gold Coins, First Spouse Gold Coins, and the 2009 United States Mint Ultra High Relief Double Eagle Gold Coin. In accordance with 31 U.S.C. 9701(b)(2)(B), the United States Mint is changing the prices of these coins to reflect a new methodology in pricing.

Effective January 12, 2009, the United States Mint will commence selling numismatic products containing American Eagle Gold and Platinum Coins, American Buffalo Gold Coins, First Spouse Gold Coins, and the 2009 United States Mint Ultra High Relief Double Eagle Gold Coin at prices established by using the new pricing methodology. Specifically, each Wednesday, the United States Mint will apply the average London Fix for platinum and gold (average of the London Fix prices covering the previous Thursday A.M. Fix through the Wednesday A.M. Fix) to the below pricing schedules. Price adjustments as a result of this process, if any, will be effective at 10 a.m. E.S.T. on the immediately following Thursday.

Pricing of Numismatic Products Containing Gold Coins ¹
Average price of gold |  | American buffalo gold proof | American buffalo gold uncirculated | American eagle gold proof | American eagle gold uncirculated | Celebration coin | 8-8-08 double prosperity | First spouse 24K proof | First spouse 24K uncirculated | 2009 United States mint ultra high relief double eagle gold coin
$500.00 to $549.99 | 1 oz | $810.00 | $808.00 | $785.00 | $778.00 | $797.00 | $825.00 |  |  | $889.00
| ½ oz | $432.00 | $429.00 | $406.00 | $400.00 |  |  | $429.00 | $416.00 |
| ¼ oz | $241.50 | $239.00 | $215.50 | $209.50 |  |  |  |  |
| ⅒ oz | $127.00 | $124.00 | $100.50 | $94.50 |  |  |  |  |
| 4 coins | $1,488.00 | $1,485.00 | $1,458.00 | $1,450.00 |  |  |  |  |
$550.00 to $599.99 | 1 oz | $860.00 | $858.00 | $835.00 | $828.00 | $847.00 | $875.00 |  |  | $939.00
| ½ oz | $457.00 | $454.00 | $431.00 | $425.00 |  |  | $454.00 | $441.00 |
| ¼ oz | $254.00 | $251.50 | $228.00 | $222.00 |  |  |  |  |
| ⅒ oz | $132.00 | $129.00 | $105.50 | $99.50 |  |  |  |  |
| 4 coins | $1,580.50 | $1,577.50 | $1,550.50 | $1,542.50 |  |  |  |  |
$600.00 to $649.99 | 1 oz | $910.00 | $908.00 | $885.00 | $878.00 | $897.00 | $925.00 |  |  | $989.00
| ½ oz | $482.00 | $479.00 | $456.00 | $450.00 |  |  | $479.00 | $466.00 |
| ¼ oz | $266.50 | $264.00 | $240.50 | $234.50 |  |  |  |  |
| ⅒ oz | $137.00 | $134.00 | $110.50 | $104.50 |  |  |  |  |
| 4 coins | $1,673.00 | $1,670.00 | $1,643.00 | $1,635.00 |  |  |  |  |
$650.00 to $699.99 | 1 oz | $960.00 | $958.00 | $935.00 | $928.00 | $947.00 | $975.00 |  |  | $1,039.00
| ½ oz | $507.00 | $504.00 | $481.00 | $475.00 |  |  | $504.00 | $491.00 |
| ¼ oz | $279.00 | 276.50 | $253.00 | $247.00 |  |  |  |  |
| ⅒ oz | $142.00 | $139.00 | $115.50 | $109.50 |  |  |  |  |
| 4 coins | $1,765.50 | $1,762.50 | $1,735.50 | $1,727.50 |  |  |  |  |
$700.00 to $749.99 | 1 oz | $1,010.00 | $1,008.00 | $985.00 | $978.00 | $997.00 | $1,025.00 |  |  | $1,089.00
| ½ oz | $532.00 | $529.00 | $506.00 | $500.00 |  |  | $529.00 | 516.00 |
| ¼ oz | $291.50 | $289.00 | $265.50 | $259.50 |  |  |  |  |
| ⅒ oz | $147.00 | $144.00 | $120.50 | $114.50 |  |  |  |  |
| 4 coins | $1,858.00 | $1,855.00 | $1,828.00 | $1,820.00 |  |  |  |  |
$750 to $799.99 | 1 oz | $1,060.00 | $1,058.00 | $1,035.00 | $1,028.00 | $1,047.00 | $1,075.00 |  |  | $1,139.00
| ½ oz | $557.00 | $554.00 | $531.00 | $525.00 |  |  | $554.00 | $541.00 |
| ¼ oz | $304.00 | $301.50 | $278.00 | $272.00 |  |  |  |  |
| ⅒ oz | $152.00 | $149.00 | $125.50 | $119.50 |  |  |  |  |
| 4 coins | $1,950.50 | $1,947.50 | $1,920.50 | $1,912.50 |  |  |  |  |
$800.00 to $849.99 | 1 oz | $1,110.00 | $1,108.00 | $1,085.00 | $1,078.00 | $1,097.00 | $1,125.00 |  |  | $1,189.00
| ½ oz | $582.00 | $579.00 | $556.00 | $550.00 |  |  | $579.00 | $566.00 |
| ¼ oz | $316.50 | $314.00 | $290.50 | $284.50 |  |  |  |  |
| ⅒ oz | $157.00 | $154.00 | $130.50 | $124.50 |  |  |  |  |
| 4 coins | $2,043.00 | $2,040.00 | $2,013.00 | $2,005.00 |  |  |  |  |
$850.00 to $899.99 | 1 oz | $1,160.00 | $1,158.00 | $1,135.00 | $1,128.00 | $1,147.00 | $1,175.00 |  |  | $1,239.00
| ½ oz | $607.00 | $604.00 | $581.00 | $575.00 |  |  | $604.00 | $591.00 |
| ¼ oz | $329.00 | $326.50 | $303.00 | $297.00 |  |  |  |  |
| ⅒ oz | $162.00 | $159.00 | $135.50 | $129.50 |  |  |  |  |
| 4 coins | $2,135.50 | $2,132.50 | $2,105.50 | $2,097.50 |  |  |  |  |
$900.00 to $949.99 | 1 oz | $1,210.00 | $1,208.00 | $1,185.00 | $1,178.00 | $1,197.00 | $1,225.00 |  |  | $1,289.00
| ½ oz | $632.00 | $629.00 | $606.00 | $600.00 |  |  | $629.00 | $616.00 |
| ¼ oz | $341.50 | $339.00 | $315.50 | $309.50 |  |  |  |  |
| ⅒ oz | $167.00 | $164.00 | $140.50 | $134.50 |  |  |  |  |
| 4 coins | $2,228.00 | $2,225.00 | $2,198.00 | $2,190.00 |  |  |  |  |
$950.00 to $999.99 | 1 oz | $1,260.00 | $1,258.00 | $1,235.00 | $1,228.00 | $1,247.00 | $1,275.00 |  |  | $1,339.00
| ½ oz | $657.00 | $654.00 | $631.00 | $625.00 |  |  | $654.00 | $641.00 |
| ¼ oz | $354.00 | $351.50 | $328.00 | $322.00 |  |  |  |  |
| ⅒ oz | $172.00 | $169.00 | $145.50 | $139.50 |  |  |  |  |
| 4 coins | $2,320.50 | $2,317.50 | $2,290.50 | $2,282.50 |  |  |  |  |
$1,000.00 to $1,049.99 | 1 oz | $1,310.00 | $1,308.00 | $1,285.00 | $1,278.00 | $1,297.00 | $1,325.00 |  |  | $1,389.00
| ½ oz | $682.00 | $679.00 | $656.00 | $650.00 |  |  | $679.00 | $666.00 |
| ¼ oz | $366.50 | $364.00 | $340.50 | $334.50 |  |  |  |  |
| ⅒ oz | $177.00 | $174.00 | $150.50 | $144.50 |  |  |  |  |
| 4 coins | $2,413.00 | $2,410.00 | $2,838.00 | $2,375.00 |  |  |  |  |
$1,050.00 to $1,099.99 | 1 oz | $1,360.00 | $1,358.00 | $1,335.00 | $1,328.00 | $1,347.00 | $1,375.00 |  |  | $1,439.00
| ½ oz | $707.00 | $704.00 | $681.00 | $675.00 |  |  | $704.00 | $691.00 |
| ¼ oz | $379.00 | $376.50 | $353.00 | $347.00 |  |  |  |  |
| ⅒ oz | $182.00 | $179.00 | $155.50 | $149.50 |  |  |  |  |
| 4 coins | $2,505.50 | $2,502.50 | $2,475.50 | $2,467.50 |  |  |  |  |
$1,100.00 to $1,149.99 | 1 oz | $1,410.00 | $1,408.00 | $1,385.00 | $1,378.00 | $1,397.00 | $1,425.00 |  |  | $1,489.00
| ½ oz | $732.00 | $729.00 | $706.00 | $700.00 |  |  | $729.00 | $716.00 |
| ¼ oz | $391.50 | $389.00 | $365.50 | $359.50 |  |  |  |  |
| ⅒ oz | $187.00 | $184.00 | $160.50 | $154.50 |  |  |  |  |
| 4 coins | $2,598.00 | $2,959.00 | $2,568.00 | $2,560.00 |  |  |  |  |
$1,150.00 to $1,199.99 | 1 oz | $1,460.00 | $1,458.00 | $1,435.00 | $1,428.00 | $1,447.00 | $1,475.00 |  |  | $1,539.00
| ½ oz | $757.00 | $754.00 | $731.00 | $725.00 |  |  | $754.00 | $741.00 |
| ¼ oz | $404.00 | $401.50 | $378.00 | $372.00 |  |  |  |  |
| ⅒ oz | $192.00 | $189.00 | $165.50 | $159.50 |  |  |  |  |
| 4 coins | $2,690.50 | $2,687.50 | $2,660.50 | $2,652.50 |  |  |  |  |
¹ The price of each gold product consists of the following components: cost of metal, cost to manufacture (including overhead) and margin. The pricing schedule is based upon a spot price of gold at $725.00 per FTO. At this spot price, the respective approximate average ranges for each component as a percentage of total price are as follows: cost of metal 66%-74%, cost to manufacture (including overhead) 11% to 19%, and margin 15%.

Pricing of Numismatic Products Containing Platinum Coins ¹
Average price of platinum |  | American eagle platinum proof | American eagle platinum uncirculated | American eagle 10th anniversary
$550.00 to $649.99 | 1 oz | $892.00 | $885.00 | $930.00
| ½ oz | $462.00 | $455.00 |
| ¼ oz | $246.00 | $240.00 |
| ⅒ oz | $117.00 | $111.50 |
| 4 coins | $1,670.00 | $1,660.00 |
$650.00 to $749.99 | 1 oz | $992.00 | $985.00 | $1,030.00
| ½ oz | $512.00 | $505.00 |
| ¼ oz | $271.00 | $265.00 |
| ⅒ oz | $127.00 | $121.50 |
| 4 coins | $1,855.00 | $1,845.00 |
$750.00 to $849.99 | 1 oz | $1,092.00 | $1,085.00 | $1,130.00
| ½ oz | $562.00 | $555.00 |
| ¼ oz | $296.00 | $290.00 |
| ⅒ oz | $137.00 | $131.50 |
| 4 coins | $2,040.00 | $2,030.00 |
$850.00 to $949.99 | 1 oz | $1,192.00 | $1,185.00 | $1,230.00
| ½ oz | $612.00 | $605.00 |
| ¼ oz | $321.00 | $315.00 |
| ⅒ oz | $147.00 | $141.50 |
| 4 coins | $2,225.00 | $2,215.00 |
$950.00 to $1,049.99 | 1 oz | $1,292.00 | $1,285.00 | $1,330.00
| ½ oz | $662.00 | $655.00 |
| ¼ oz | $346.00 | $340.00 |
| ⅒ oz | $157.00 | $151.50 |
| 4 coins | $2,410.00 | $2,400.00 |
$1,050.00 to $1,149.99 | 1 oz | $1,392.00 | $1,385.00 | $1,430.00
| ½ oz | $712.00 | $705.00 |
| ¼ oz | $371.00 | $365.00 |
| ⅒ oz | $167.00 | $161.50 |
| 4 coins | $2,595.00 | $2,585.00 |
$1,150.00 to $1,249.99 | 1 oz | $1,492.00 | $1,485.00 | $1,530.00
| ½ oz | $762.00 | $755.00 |
| ¼ oz | $396.00 | $390.00 |
| ⅒ oz | $177.00 | $171.50 |
| 4 coins | $2,780.00 | $2,770.00 |
$1,250.00 to $1,349.99 | 1 oz | $1,592.00 | $1,585.00 | $1,630.00
| ½ oz | $812.00 | $805.00 |
| ¼ oz | $421.00 | $415.00 |
| ⅒ oz | $187.00 | $181.50 |
| 4 coins | $2,965.00 | $2,955.00 |
$1,350.00 to $1,449.99 | 1 oz | $1,692.00 | $1,685.00 | $1,730.00
| ½ oz | $862.00 | $855.00 |
| ¼ oz | $446.00 | $440.00 |
| ⅒ oz | $197.00 | $191.50 |
| 4 coins | $3,150.00 | $3,140.00 |
$1,450.00 to $1,549.99 | 1 oz | $1,792.00 | $1,785.00 | $1,830.00
| ½ oz | $912.00 | $905.00 |
| ¼ oz | $471.00 | $465.00 |
| ⅒ oz | $207.00 | $201.50 |
| 4 coins | $3,335.00 | $3,325.00 |
$1,550.00 to $1,649.99 | 1 oz | $1,892.00 | $1,885.00 | $1,930.00
| ½ oz | $962.00 | $955.00 |
| ¼ oz | $496.00 | $490.00 |
| ⅒ oz | $217.00 | $211.50 |
| 4 coins | $3,520.00 | $3,510.00 |
$1,650.00 to $1,749.99 | 1 oz | $1,992.00 | $1,985.00 | $2,030.00
| ½ oz | $1,012.00 | $1,005.00 |
| ¼ oz | $521.00 | $515.00 |
| ⅒ oz | $227.00 | $221.50 |
| 4 coins | $3,705.00 | $3,695.00 |
$1,750.00 to $1,849.99 | 1 oz | $2,092.00 | $2,085.00 | $2,130.00
| ½ oz | $1,062.00 | $1,055.00 |
| ¼ oz | $546.00 | $540.00 |
| ⅒ oz | $237.00 | $231.50 |
| 4 coins | $3,890.00 | $3,880.00 |
$1,850.00 to $1,949.99 | 1 oz | $2,192.00 | $2,185.00 | $2,230.00
| ½ oz | $1,112.00 | $1,105.00 |
| ¼ oz | $571.00 | $565.00 |
| ⅒ oz | $247.00 | $241.50 |
| 4 coins | $4,075.00 | $4,065.00 |
$1,950.00 to $2,049.99 | 1 oz | $2,292.00 | $2,285.00 | $2,330.00
| ½ oz | $1,162.00 | $1,155.00 |
| ¼ oz | $596.00 | $590.00 |
| ⅒ oz | $257.00 | $251.50 |
| 4 coins | $4,260.00 | $4,250.00 |
$2,050.00 to $2,149.99 | 1 oz | $2,392.00 | $2,385.00 | $2,430.00
| ½ oz | $1,212.00 | $1,205.00 |
| ¼ oz | $621.00 | $615.00 |
| ⅒ oz | $267.00 | $261.50 |
| 4 coins | $4,445.00 | $4,435.00 |
¹ The price of each platinum product consists of the following components: cost of metal, cost to manufacture (including overhead) and margin. This price schedule is based upon a spot price of platinum at $800.00 per FTO. At this spot price, the respective approximate average ranges for each component as a percentage of total price are as follows: cost of metal 71%-74%, cost to manufacture (including overhead) 11%-14%, and margin 15%.

Authority: 31 U.S.C. 5111, 5112 and 9701.

Dated: December 30, 2008.
Edmund C. Moy,
Director, United States Mint.

[FR Doc. E8-31424 Filed 1-5-09; 8:45 am]

BILLING CODE 4810-37-P